ENVIRONMENTAL PROTECTION AGENCY

[EPA-HQ-OPP-2009-0045; FRL-8801-5]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before February 5, 2010.

ADDRESSES: Submit your comments, identified by the docket identification (ID) number and the pesticide petition number (PP) for the petition of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have a typical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PPs 2E6426 and 9E7625. (EPA-HQ-OPP-2009-0843). The Interregional Research Project No. 4 (IR-4), 500 College Road East, Suite 201W, Princeton, NJ 08540, proposes to establish a tolerance in 40 CFR part 180 for residues of the herbicide linuron, (3-(3,4-dichlorophenyl)-1-methoxy-1-methylurea), and its metabolites convertible to 3,4-dichloroaniline, calculated as linuron, in or on pea, dry at 0.07 parts per million (ppm); parsley, leaves at 2.5 ppm; and parsley, dried leaves at 7.0 ppm for PP 9E7625; and horseradish at 0.050 ppm for PP 2E6426. Adequate enforcement methods are available for the determination of linuron in plant and animal commodities. The Pesticide Analytical Manual (PAM) Vol. II, lists a colorimetric method (Method I, Bleidner et. al.,) and a paper chromatographic method (Method II). Residues of diuron may interfere in Method I. A modified version of Method I, which includes a cellulose column step to separate linuron from diuron, is currently the preferred method for the enforcement of tolerances. Both of these methods determine linuron and all metabolites hydrolyzable to 3,4-dichloroaniline and have limits of detection of 0.05 ppm. Contact: Laura Nollen, (703) 305-7390; nollen.laura@epa.gov.

2. PP 9E7573. (EPA-HQ-OPP-2009-0823). Syngenta Crop Protection, Inc., P.O. Box 18300, Greensboro, NC 27419, proposes to establish a tolerance in 40 CFR part 180 for residues of the fungicide difenoconazole, 1-[2-[2-chloro-4-(4-chlorophenoxy)phenyl]-4-methyl-1,3-dioxolan-2-ylmethyl]-1H-1,2,4-triazole, in or on mango at 0.09 parts per million (ppm) and waxapple at 1.5 ppm. The practical analytical method (AG-575B) was submitted for detecting and measuring levels of difenoconazole in or on food with a limit of quantification (LOQ) that allows monitoring of food with residues at or above the levels set in the proposed tolerances. Method REM 147.08 is also available for enforcement method, for the determination of residues of difenoconazole in crops. Residues are qualified by liquid chromatography/mass spectrometry/mass spectrometry (LC/MS/MS). Contact: Rosemary Kearns, (703) 305-5611; kearns.rosemary@epa.gov.

3. PP 9E7577. (EPA-HQ-OPP-2009-0797). The Interregional Research Project No. 4 (IR-4), 500 College Road East, Suite 201W, Princeton, NJ 08540, in cooperation with Canyon Group LLC., c/o Gowan Company, 370 South Main St., Yuma, AZ 85364, proposes to establish a tolerance in 40 CFR part 180 for residues of the herbicide halosulfuron-methyl, methyl 3-chloro-5-[[[[(4,6-dimethoxy-2-pyrimidinyl)amino]carbonyl]amino]sulfonyl]-1-methyl-1 H-pyrazole-4-carboxylate, and its metabolites and degradates (compliance with the tolerance level specified is to be determined by measuring only those halosulfuron-methyl residues convertible to 3-chloro-1-methyl-5-sulfamoylpyrazole-4-carboxylic acid, expressed as the stoichiometric equivalent of halosulfuron-methyl) in or on pea and bean, succulent shelled, subgroup 6B; pea and bean, dried shelled, except soybean, subgroup 6C; vegetables, tuberous and corm, subgroup 1C; bushberry, subgroup 13-07B; apple; rhubarb; and okra at 0.05 ppm. A practical analytical method, gas chromatography with a nitrogen-specific detector, is available for enforcement purposes. The limit of detection is 0.003 ppm. Contact: Sidney Jackson, (703) 305-7610; jackson.sidney@epa.gov.

4. PPs 9E7588 and 9F7589. (EPA-HQ-OPP-2009-0636). Bayer CropScience LP., 2 T.W. Alexander Dr., Research Triangle Park, NC 27709, proposes to establish a tolerance in 40 CFR part 180 for residues of the herbicide indaziflam, N-[(1R,2S)-2,3-dihydro-2,6-dimethyl-1H-inden-1-yl-1,3,5-triazine-2,4-diamine]-6-(1-fluoroethyl)] and its fluoroethyl-indaziflam metabolite, in or on fruit, pome, group 11; fruit, citrus, group 10; fruit, stone, group 12; nut, tree, group 14; pistachio; grape; and olive at 0.01 ppm; almond, hulls at 0.2 ppm PP 9F7589; and the import tolerance for sugarcane, sugar, refined at 0.01 ppm PP 9E7588. Indaziflam residues are quantified in raw agricultural commodities by high pressure liquid chromatography/triple stage quadrupole mass spectrometry (LC/MS/MS) using the stable isotopically labeled analytes as internal standards. The LOQ of each analyte was 0.005 ppm for all commodities. Contact: Beth Benbow, (703) 347-8072; benbow.bethany@epa.gov.

5. PP 9E7604. (EPA-HQ-OPP-2009-0813). Interregional Research Project No. 4, 500 College Road East, Suite 201W, Princeton, NJ, 08540-6635, in cooperation with Bayer CropScience, Research Triangle Park, NC 27709, proposes to establish a tolerance in 40 CFR part 180 for residues of the herbicide glufosinate-ammonium (butanoic acid, 2-amino-4-(hydroxymethylphosphinyl)-monoammonium salt) and its metabolites, 2-acetamido-4-methylphosphinico-butanoic acid and 3-methylphosphinico-propionic acid, expressed as 2-amino-4-(hydroxymethylphosphinyl)butanoic acid equivalents, in or on corn, sweet, kernel plus cob with husks removed at 0.2 ppm; corn, sweet, forage at 4.0 ppm; and corn, sweet, stover at 6.0 ppm. The enforcement analytical method utilizes gas chromatography for detecting and measuring levels of glufosinate-ammonium and its metabolites with a general limit of quantification of 0.05 ppm. This method allows detection of residues at or above the proposed tolerances. Contact: Sidney Jackson, (703) 305-7610; jackson.sidney@epa.gov.

6. PP 9E7607. (EPA-HQ-OPP-2009-0814). The Interregional Research Project No. 4 (IR-4), 500 College Road East, Suite 201W, Princeton, NJ 08540, in cooperation with Syngenta Crop Protection, Inc., 410 Swing Rd., Greensboro, NC 27419, proposes to establish a tolerance in 40 CFR part 180 for residues of the herbicide, S-metolachlor,S-2-chloro-N-(2-ethyl-6-methylphenyl)-N-(2-methoxy-1-methylethyl) acetamide, its R-enantiomer, and its metabolites, determined as the derivatives, 2-[(2-ethyl-6-methylphenyl)amino]-1-propanol and 4-(2-ethyl-6-methylphenyl)-2-hydroxy-5-methyl-3-morpholinone, each expressed as the parent compound, in or on carrot at 0.3 ppm; cucumber, okra, sesame seed, and sorghum sweet, at 0.1 ppm; Brassica, leafy greens, subgroup 5B, and turnip, greens at 1.2 ppm; melon, subgroup 9A, and caneberry, subgroup 13-07A at 0.08 ppm; blueberry, lowbush at 1.4 ppm; bushberry, subgroup 13-07B at 0.15 ppm; onion, bulb, subgroup 3-07A at 0.1 ppm; and onion, green, subgroup 3-07B at 2.0 ppm. The Pesticide Analytical Manual (PAM) Vol. II, Pesticide Regulation 180.368 lists a GC/NPD method (Method 1) for determining residues in/on plants and a gas chromatography/mass spectrum detector (GC/MSD) method for determining residues in livestock commodities. These methods determine residues of S-metolachlor and its metabolites as either CGA-37913 or CGA-49751 following acid hydrolysis. The LOQ for the method is 0.03 ppm for CGA-37913 and 0.05 ppm for CGA-49751. Syngenta has also developed a chiral specific analytical method to allow for the determination of residues that are specific to S-metolachlor. It is this chiral specific method that Syngenta and IR-4 proposes for future use as the analytical enforcement method in support of these requested tolerances. Syngenta No. 1848-01 was used in several of the studies in this petition to analyze agricultural commodities. The latter chiral specific method is the same as the updated tolerance enforcement method, except that chiral chromatography and LC/MS/MS are used to separate and quantitate the hydrolysis products SYN-506357 (s-configured enantiomer of CGA-37913) and SYN-508500 (s-configured enantiomer of CGA-49751). Contact: Sidney Jackson, (703) 305-7610; jackson.sidney@epa.gov.

7. PP 9E7611. (EPA-HQ-OPP-2009-0774). The Interregional Research Project No. 4 (IR-4), 500 College Road East, Suite 201W, Princeton, NJ 08540, in cooperation with Syngenta Crop Protection, Inc., 410 Swing Rd., Greensboro, NC 27419, proposes to establish a tolerance in 40 CFR part 180 for residues of the fungicide chlorothalonil (tetrachloroisophthalonitrile) and its metabolite 4-hydroxy-2,5,6-trichloroisophthalonitrile, in or on berry, low growing subgroup 13-07G at 0.01 ppm; bushberry subgroup 13-07B at 1 ppm; onion, bulb, subgroup 3-07A at 0.5 ppm; and onion, green, subgroup 3-07B at 5 ppm. An adequate residue analytical method (gas chromatography) is available for enforcement purposes. The method is listed in the PAM Vol. II. Contact: Sidney Jackson, (703) 305-7610; jackson.sidney@epa.gov.

8. PP 9E7612. (EPA-HQ-OPP-2009-0775). The Interregional Research Project No. 4 (IR-4), 500 College Road East, Suite 201W, Princeton, NJ 08540, proposes to establish a tolerance in 40 CFR part 180 for residues of the fungicide flutolanil, N-(3-(1-methylethoxy)phenyl)-2-(trifluoromethyl)benzamide and its metabolites converted to 2-(trifluoromethyl) benzoic acid and calculated as flutolanil in or on ginseng at 3.5 ppm; vegetable, Brassica, leafy, group 5 at 0.11 ppm; and turnip, greens at 0.11 ppm. Residues of flutolanil and M-4 are extracted from macerated samples with acetone or a mixture of methanol and water. For cabbage and ginseng, an aliquot of the extract is diluted with water and analyzed using high performance liquid chromatography-mass spectrometry/mass spectrometry (HPLC-MS/MS). For broccoli and mustard greens, the acetone extract is diluted with water and the residues are partitioned into a mixture of ethyl acetate and dichloromethane. This solvent is dispelled and the residue is reconstituted in acetone for purification through Florisil. The purified eluent is taken to dryness and the residues are reconstituted in a mixture of acetonitrile and water. Residues of flutolanil and M-4 are chromatographed and quantified using an HPLC-MS/MS. The LOQ is 0.05 ppm for each flutolanil and M-4. Contact: Laura Nollen, (703) 305-7390; nollen.laura@epa.gov.

9. PP 9E7615. (EPA-HQ-OPP-2009-0801). The Interregional Research Project No. 4 (IR-4), 500 College Road East, Suite 201W, Princeton, NJ 08540, proposes to establish a tolerance in 40 CFR part 180 for residues of the fungicide cyazofamid, 4-chloro-2-cyano-N,N-dimethyl-5-(4-methylphenyl)-1H-imidazole-1-sulfonamide and its metabolite CCIM, 4-chloro-5-(4-methylphenyl)-1H-imidazole-2-carbonitrile, expressed as cyazofamid, in or on Brassica, head and stem, subgroup 5A at 1.2 ppm; Brassica, leafy greens, subgroup 5B at 12.0 ppm; turnip, greens at 12.0 ppm; spinach at 9.0 ppm; and hops at 10.0 ppm. Residues of cyazofamid and CCIM were extracted from samples (5 g. for broccoli, cabbage, mustard greens & spinach; 1 g. for hops) with acetonitrile. The combined extracts were partitioned with hexane and then reduced to 1-2 mL. The residues were dissolved in 20% acetonitrile/water and passed through a Nexus or Strat-X Polymeric solid phase extraction column (SPE). The residues were eluted with 60/40 acetonitrile/water and then diluted in 50/50 acetonitrile/water. The samples were quantitated by liquid chromatography (LC)/MS/MS. Contact: Laura Nollen, (703) 305-7390; nollen.laura@epa.gov.

10. PPs 8F7358 and 8F7463. (EPA-HQ-OPP-2009-0364). Bayer CropScience, 2 T.W. Alexander Dr., Research Triangle Park, NC 27709, proposes to establish a tolerance in 40 CFR part 180 for residues of the fungicide fluopyram (N-[2-[3-chloro-5-(trifluoromethyl)-2-pyridinyl]ethyl]-2-(trifluoromethyl)benzamide) in or on grape at 2.0 ppm; strawberry at 2.0 ppm; and tomato at 1.0 ppm for (PP 8F7358); and alfalfa; forage at 0.25 ppm; alfalfa; hay at 0.80 ppm; almond; hulls at 8.0 ppm; apple; wet pomace at 2.5 ppm; artichoke at 2.0 ppm; banana at 1.0 ppm; beet; sugar; roots at 0.10 ppm; berry; lowgrowing; subgroup 13-07G at 2.0 ppm; Brassica; head and stem; subgroup 5A at 3.0 ppm; Brassica; leafy greens; subgroup 5B at 35 ppm; bushberries; subgroup 13-07B at 10 ppm; caneberries; subgroup 13-07A at 5.0 ppm; citrus; oil at 10 ppm; corn; sweet; kernel plus cob with husk removed at 0.10 ppm; cotton; gin byproducts at 0.05 ppm; cotton; undelinted seed at 0.10 ppm; fruit; citrus; group 10 at 1.0 ppm; fruit; pome; group 11 at 1.0 ppm; fruit; small; vine; climbing; except fuzzy kiwifruit; subgroup 13-07F at 2.0 ppm; fruit; stone; group 12 at 2.0 ppm; grain; cereal; forage; fodder and straw; group 16; except rice; forage at 8.0 ppm; grain; cereal; forage; fodder and straw; group 16; except rice; hay; straw and stover at 14 ppm; grain; cereal; forage; fodder and straw; group 16; except rice; aspirated fractions at 50 ppm; grain; cereal; group 15; except rice and sweet corn at 3.0 ppm; grape; raisin at 3.5 ppm; grass; forage; fodder and hay; group 17; forage at 80 ppm; grass; forage; fodder and hay; group 17; hay at 30 ppm; herbs; subgroup 19A; fresh at 50 ppm; herbs; subgroup 19A; dried at 260 ppm; hop; dried cones at 100 ppm; nut; tree; group (including pistachio) 14 at 0.05 ppm; okra at 8.0 ppm; oilseed; group 20; except cotton at 5.0 ppm; onion; bulb; subgroup 3-07A at 0.30 ppm; onion; green; subgroup 3-07B at 20 ppm; peanut at 0.05 ppm; peanut; hay at 50 ppm; pepper; non-bell at 8.0 ppm; potato; processed potato waste at 0.15 ppm; soybean; aspirated fractions at 70 ppm; soybean; forage at 8.0 ppm; soybean; hay at 30 ppm; soybean; hulls at 0.40 ppm; soybean; seed at 0.30 ppm; spices; except black pepper; subgroup 19B at 100 ppm; vegetable; cucurbit; group 9 at 1.0 ppm; vegetable; foliage of legume; except soybean; subgroup 7A; forage at 30 ppm; vegetable; foliage of legume; except soybean; subgroup 7A; hay at 75 ppm; vegetable; foliage of legume; except soybean; subgroup 7A; vines at 16 ppm; vegetable; fruiting; except non-bell pepper; group 8 at 1.0 ppm; vegetable; leafy; except Brassica; group 4 at 35 ppm; vegetable; leaves of root and tuber; group 2 at 30 ppm; vegetable; legume; edible podded; subgroup 6A at 2.0 ppm; vegetable; legume; succulent shelled; subgroup 6B at 0.20 ppm; vegetable; pea and bean; dried shelled (except soybean); subgroup 6C at 0.50 ppm; vegetable; root and tuber; except sugarbeet; subgroup 1B at 0.50 ppm; and vegetable; tuberous and corm; subgroup 1C at 0.05 ppm.

Furthermore, Bayer CropScience proposes to establish a tolerance in 40 CFR part 180 for residues of the fungicide fluopyram (N-[2-[3-chloro-5-(trifluoromethyl)-2-pyridinyl]ethyl]-2-(trifluoromethyl)benzamide) and its metabolite 2-(trifluoro methyl) benzamide, expressed in parent equivalents in/on the animal commodities cattle; fat at 0.10 ppm; cattle; meat at 0.10 ppm; cattle; meat byproducts; except liver at 0.10 ppm; cattle; liver at 1.2 ppm; eggs at 0.1 ppm; goat; fat at 0.10 ppm; goat; meat at 0.10 ppm; goat; meat byproducts; except liver at 0.10 ppm; goat; liver at 1.2 ppm; hog; fat at 0.01 ppm; hog; meat at 0.01 ppm; hog; meat byproducts; except liver at 0.01 ppm; hog; liver at 0.15 ppm; horse; fat at 0.10 ppm; horse; meat at 0.10 ppm; horse; meat byproducts; except liver at 0.10 ppm; horse; liver at 1.2 ppm; milk at 1.2 ppm; poultry; fat at 0.05 ppm; poultry; meat at 0.03 ppm; poultry; meat byproducts at 0.20 ppm; sheep; fat at 0.10 ppm; sheep; meat at 0.10 ppm; sheep; meat byproducts; except liver at 0.10 ppm; and sheep; liver at 1.2 ppm for (P 8F7463).

Fluopyram was determined to be the only analyte required for analysis based on the metabolic profile in plants, the short pre-harvest intervals analyzed, and results from preliminary residues trials in Europe. The analytical method involves, solvent extraction, filtration, and addition of an isotopically labeled internal standard followed by solid phase extraction. Quantitation is by high performance liquid chromatography-electrospray ionization/tandem mass spectrometry (LC/MS/MS). Contact: Shaja B. Joyner, (703) 308-3194; joyner.shaja@epa.gov.

11. PP 8F7509. (EPA-HQ-OPP-2009-0796). Valent U.S.A. Corporation, 1600 Riviera Ave., Suite 200, Walnut Creek, CA, proposes to establish a tolerance in 40 CFR part 180 for residues of the herbicide bispyribac-sodium; benzoic acid; 2,6-bis-((4,6-dimethoxy-2-pyrimidinyl)oxy)-, sodium salt; and its des-methyl metabolite, sodium 2-(4,6-dimethoxypyrimidin-2-yl)oxy-6-(4-hydroxy-6-methoxypyrimidin-2-yl) benzoate in or on freshwater fish tissue at 0.01 ppm. Practical analytical methods for detecting and measuring levels of bispyribac-sodium and its metabolites have been developed and validated in/on all appropriate plant and animal matrices. An analytical method for detecting bispyribac-sodium and its des methyl metabolite (KIH 2023) in fish tissue has been submitted with this petition. The LOQ of bispyribac-sodium and the metabolite in the analytical method for fish tissue is 10 ppb (0.01 ppm); which will allow monitoring for residues at the levels proposed for the tolerances. Contact: Hope Johnson, (703) 305-5410; johnson.hope@epa.gov.

12. PP 9F7560. (EPA-HQ-OPP-2009-0717). K-I CHEMICAL U.S.A., Inc., c/o Landis International, Inc., P.O. Box 5126, Valdosta, GA 31603-5126, proposes to establish a tolerance in 40 CFR part 180 for residues of the herbicide pyroxasulfone, 3-[(5-(difluoromethoxy)-1-methyl-3(trifluoromethyl) pyrazole-4-ylmethylsulfonyl]-4,5-dihydro-5,5-dimethyl-1,2-oxazole and its major metabolites M-1,5-difluoromethoxy-1-methyl-3-trifluoromethyl-1H-pyrazol-4-ylmethanesulfonic acid, M-3,5-difluoromethoxy-1-methyl-3-trifluoromethyl-1H-pyrazol-4-carboxylic acid, and M-25, (5-difluoromethoxy-3-trifluoromethyl-1H-pyrazol-4-yl)methanesulfonic acid in or on field corn kernel at 0.01 ppm; field corn forage at 0.15 ppm; field corn stover at 0.15 ppm; field corn meal at 0.01 ppm; field corn grits at 0.01 ppm; field corn flour at 0.01 ppm; field corn starch at 0.01 ppm; field corn oil (wet and dry milled) at 0.01 ppm; sweet corn ears at 0.02 ppm; sweet corn forage at 0.15 ppm; sweet corn stover at 0.15 ppm; wheat grain at 0.02 ppm; wheat forage at 0.2 ppm; wheat straw at 0.2 ppm; soybean seed at 0.05 ppm; soybean forage at 1.0 ppm; soybean hay at 2.0 ppm; soybean meal at 0.05 ppm; soybean hulls at 0.02 ppm; and soybean refined oils at 0.01 ppm. Practical analytical methodology has been submitted for detecting levels of pyroxasulfone and its major metabolites (M-1, M-3, and M-25) based upon extraction of matrices with acetonitrile or aqueous methanol followed by various cleanup steps depending on the matrix and analyte. Analysis was performed using LC/MS/MS. Contact: Michael Walsh, (703) 308-2972; walsh.michael@epa.gov.

13. PP 9F7582. (EPA-HQ-OPP-2009-0737). Syngenta Crop Protection, Inc., P.O. Box 18300, Greensboro, NC 27419, proposes to establish a tolerance in 40 CFR part 180 for residues of the insecticide thiamethoxam (3-[(2-chloro-5-thiazolyl)methyl]tetrahydro-5-methyl-N-nitro-4H-1,3,5-oxadiazin-4-imine) (CAS Reg. No. 153719-23-4) and its metabolite [N-(2-chloro-thiazol-5-ylmethyl)-N'-methyl-N'-nitro-guanidine in or on onion, dry bulb at 0.03 ppm. Syngenta Crop Protection, Inc., has submitted practical analytical methodology for detecting and measuring levels of thiamethoxam in or on raw agricultural commodities. This method is based on crop specific clean-up procedures and determination by liquid chromatography with either ultraviolet (UV) or mass spectrometry (MS) detections. The limit of detection (LOD) for each analyte of this method is 1.25 ng injected for samples analyzed by UV and 0.25 ng injected for samples analyzed by MS, and the limit of quantification (LOQ) is 0.005 ppm for milk and juices; and 0.01 ppm for all other substrates. Contact: Julie Chao, (703) 308-8735; chao.julie@epa.gov.

14. PP 9F7624. (EPA-HQ-OPP-2009-0833). Syngenta Crop Protection, Inc., PO Box 18300, Greensboro, NC 27419-8300, proposes to establish a tolerance in 40 CFR part 180 for residues of the herbicide fluazifop-p-butyl in or on banana and plantains at 0.01 ppm; citrus (whole fruit), citrus (oil), and citrus (juice) at 0.05 ppm; citrus (dried pulp) at 0.40 ppm; grapes at 0.01 ppm; sugarbeet (root) at 0.25 ppm; sugarbeet (top) at 1.5 ppm; sugarbeet (dried pulp) at 1.0 ppm; and sugarbeet (molasses) at 3.5 ppm. Syngenta has developed and validated analytical methodology for enforcement purposes. This method has been submitted to the Agency and is in PAM Vol. II, Method II. An extensive database of method validation data using this method on various crop commodities is available. Contact: Michael Walsh, (703) 308-2972; walsh.michael@epa.gov.

Amended Tolerances

1. PP 9E7598. (EPA-HQ-OPP-2009-0812). The Interregional Research Project No. 4 (IR-4), 500 College Road East, Suite 201W, Princeton, NJ 08540, in cooperation with Arysta LifeScience North America LLC., 15401 Weston Parkway, Suite 150, Cary, NC 27513, proposes to amend the tolerances in 40 CFR part 180.599 by revising the tolerance expression to read tolerances are established for the residues of the insecticide acequinocyl, including its metabolites and degradates. Compliance with the tolerance levels specified is to be determined by measuring only the sum of acequinocyl, 2-(acetyloxy)-3-dodecyl-1,4-naphthalenedione, and its metabolite, 2-dodecyl-3-hydroxy-1,4-napthoquinone, calculated as the stoichiometric equivalent of acequinocyl and by establishing a tolerance for the residues of acequinocyl, including its metabolites and degradates in or on vegetables, fruiting, group 8 at 0.7 ppm; okra at 0.7 ppm; bean, edible podded at 0.25 ppm; and hop, dried cones at 3.5 ppm. The analytical method to quantitated residues of acequinocyl and acequinocyl-OH in/on fruit crops utilizes high pressure liquid chromatography-mass spectrometry (HPLC/MS/MS) detection for fruiting vegetables; crop group 8 (tomatoes and peppers) and LC/MS/MS for snap-bean; edible podded; and hop; dried cones. The lowest level for method validation (LLMV) was 0.01 ppm for acequinocyl and 0.025 ppm for acequinocyl-OH. Contact: Sidney Jackson, (703) 305-7610; jackson.sidney@epa.gov.

2. PP 9E7625. (EPA-HQ-OPP-2009-0843). The Interregional Research Project No. 4 (IR-4), 500 College Road East, Suite 201W, Princeton, NJ 08540, proposes to amend the tolerance in 40 CFR 180.184(c) by deleting the regional tolerance for residues of the herbicide linuron, (3-(3,4-dichlorophenyl)-1-methoxy-1-methylurea) and its metabolites convertible to 3,4-dichloroaniline, calculated as linuron, in or on parsley, leaves at 0.25 ppm. Contact: Laura Nollen, (703) 305-7390; nollen.laura@epa.gov.

3. PP 9F7576. (EPA-HQ-OPP-2009-0673). BASF Corporation, 26 Davis Dr., Research Triangle Park, NC 27709, proposes to amend by increasing the tolerance in 40 CFR 180.361 for the combined residues of the herbicide pendimethalin, N-(1-ethylpropyl)-3,4-dimethyl-2,6-dinitrobenzenamine, and its metabolite 4-[(1-ethylpropyl)amino]-2-methyl-3,5-dinitrobenzyl alcohol in or on alfalfa forage to 3.5 ppm. In plants, the method is aqueous organic solvent extraction, column clean-up, and quantitation by gas chromatograph (GC). The method has a LOQ of 0.05 ppm for pendimethalin and the alcohol metabolite. Contact: Philip V. Errico, (703) 305-6663; errico.philip@epa.gov.

New Tolerance Exemptions

1. PP 9E7580. (EPA-HQ-OPP-2009-0692). Bayer CropScience, 2 T.W., Alexander Dr., P.O. Box 12014, Research Triangle Park, NC 27709, proposes to establish an exemption from the requirement of a tolerance for residues of α-isotridecyl-ω-methoxy-poly(oxy-1,2-ethanediyl) (CAS No. 345642-79-7) when used as a pesticide inert ingredient surfactant in pesticide formulations under 40 CFR 180.920 in or on all raw agricultural commodities. Since the petitioner is requesting a tolerance exemption, an analytical method for residues of the inert in food crops in not required. Contact: Deirdre Sunderland, (703) 603-0851; sunderland.deirdre@epa.gov.

2. PP 9E7634. (EPA-HQ-OPP-2009-0845). Wacker Chemical Corporation, 3301 Sutton Rd., Adrian, MI 49221-9397, proposes to establish an exemption from the requirement of a tolerance for residues of tetraethoxysilane, polymer with hexamethyldisiloxane with a minimum number average molecule weight (in AMU) of 2,500 (CAS No. 104133-09-7) in or on all raw agricultural commodities when used as a pesticide inert ingredient in pesticide formulations. Since the petitioner is requesting a tolerance exemption, an analytical method for residues of the inert in food crops in not required. Contact: Deirdre Sunderland, (703) 603-0851; sunderland.deirdre@epa.gov.

List of Subjects

Environmental protection, Agricultural commodities, Feed additives, Food additives, Pesticides and pests, Reporting and recordkeeping requirements.

Dated: December 16, 2009.
Lois Rossi,
Director, Registration Division, Office of Pesticide Programs.

[FR Doc. E9-31192 Filed 1-5-10; 8:45 am]

Billing Code 6560-50-S